DEPARTMENT OF DEFENSE

Department of the Army; Corps of Engineers

Termination of the Environmental Impact Statement (EIS) for the Proposed Regional Watershed Supply Project in Wyoming and Colorado

AGENCY: Department of the Army, U.S. Army Corps of Engineers, DoD.

ACTION: Notice.

SUMMARY: The U. S. Army Corps of Engineers, Omaha District, Regulatory Branch is notifying interested parties that it has terminated the process to develop a Draft Environmental Impact Statement (DEIS) and has withdrawn the Section 404 Clean Water Act permit application for the proposed `Regional Watershed Supply Project' submitted in 2008 by a private water development entity known as Million Conservation Resource Group (MCRG). The original Notice of Intent to Prepare an EIS was published in the Federal Register on Friday, March 20, 2009 (74 FR 11920), with subsequent amended announcements on May 8, 2009 (74 FR 21665) and August 11, 2009 (74 FR 40171).

FOR FURTHER INFORMATION CONTACT: Questions regarding the termination of this EIS process should be addressed to Ms. Rena Brand, Project Manager, U.S. Army Corps of Engineers, Denver Regulatory Office, 9307 S. Wadsworth Blvd., Littleton, CO 80128-6901; (303)-979-4120; mcrg.eis@usace.army.mil.

SUPPLEMENTARY INFORMATION: After the initial public scoping process in 2009, the Corps received 7,409 substantive comments related to the applicant's proposal to construct a 558 mile water pipeline from Flaming Gorge Reservoir in Southwest Wyoming to a terminating storage reservoir near Pueblo, Colorado, designed to supply up to 250,000 acre feet of water annually to various municipal and agricultural entities in Eastern Wyoming and the Front Range of Colorado. A common concern expressed dealt with the need for the water, what entities would be using the water, and for what purposes. On April 1, 2011, MCRG expressed to the Corps that they wished to change the primary purpose of the project to power generation. When the EIS process started in 2009, it was understood that the project purpose was water supply, so all EIS work done to date, to include public scoping was related to that purpose. The project now has an uncertain and variable purpose, which technically makes the applicant's permit application incomplete. Additionally, Corps' regulations require that applicants be provided sufficient time to respond to requests from the Corps for information, normally not to exceed 30 days. At the close of a recent 60-day stop work request by MCRG, the Corps decided to withdraw the permit application, as MCRG did not officially respond with a decision about how the EIS was to proceed, as requested by the Corps. The Corps decided that now is the appropriate time to officially terminate the EIS. The Corps' neutral role in this EIS process was to evaluate the environmental consequences of proposed projects such as these under authority of Section 404 of the Clean Water Act. The preparation of the EIS was being conducted by a third-party contractor directed by the Corps, and funded by the permit applicant, which is typical of Corps Regulatory EIS studies. Withdrawal of the permit application and termination of the EIS process will not prevent MCRG from re-applying at a later date, and will not affect other ongoing Corps water supply studies along the Colorado Front Range.

Brenda S. Bowen,
Army Federal Register Liaison Officer.

[FR Doc. 2011-18523 Filed 7-21-11; 8:45 am]

BILLING CODE 3720-58-P